ENVIRONMENTAL PROTECTION AGENCY

[Petitions IV-2016-11 and IV-2017-17; FRL-9974-65—Region 4]

Clean Air Act Operating Permit Program; Petitions for Objection to State Operating Permits for Tennessee Valley Authority—Gallatin Fossil Plant (Sumner County, Tennessee)

AGENCY: Environmental Protection Agency (EPA).

ACTION: Notice of final order on petitions to object to state operating permits.

SUMMARY: The Environmental Protection Agency (EPA) Administrator signed an Order, dated January 30, 2018, denying the petitions submitted by Sierra Club (Petitioner) objecting to a proposed Clean Air Act (CAA) title V operating permit issued to Tennessee Valley Authority (TVA) for its Gallatin Fossil Fuel Plant located in Gallatin, Sumner County, Tennessee. The Order responds to two petitions: The first, dated August 8, 2016, requested that the EPA object to the proposed renewal permit no. 561209; the second, dated November 20, 2017, requested that the EPA object to the proposed significant modification to permit no. 561209. Both permitting actions were issued by the Tennessee Department of Environment and Conservation (TDEC). The Order constitutes a final action on the petitions addressed therein.

ADDRESSES: Copies of the Order, the petitions, and all pertinent information relating thereto are on file at the following location: EPA Region 4; Air, Pesticides and Toxics Management Division; 61 Forsyth Street SW; Atlanta, Georgia 30303-8960. The Order is also available electronically at the following address: https://wcms.epa.gov/sites/production/files/2018-02/documents/tvagallatinorder2018.pdf.

FOR FURTHER INFORMATION CONTACT: Art Hofmeister, Air Permits Section, EPA Region 4, at (404) 562-9115 or hofmeister.art@epa.gov.

SUPPLEMENTARY INFORMATION: The CAA affords the EPA a 45-day period to review and, as appropriate, the authority to object to operating permits proposed by state permitting authorities under title V of the CAA, 42 U.S.C. 7661-7661f. Section 505(b)(2) of the CAA and 40 CFR 70.8(d) authorize any person to petition the EPA Administrator to object to a title V operating permit within 60 days after the expiration of the EPA's 45-day review period if EPA has not objected on its own initiative. Petitions must be based only on objections to the permit that were raised with reasonable specificity during the public comment period provided by the state, unless the petitioner demonstrates that it was impracticable to raise these issues during the comment period or the grounds for the issues arose after this period. Pursuant to sections 307(b) and 505(b)(2) of the CAA, a petition for judicial review of those parts of the Order that deny issues in the petition may be filed in the United States Court of Appeals for the appropriate circuit within 60 days from the date this notice is published in the Federal Register.

Petitioner submitted petitions requesting that the EPA object to the proposed CAA title V operating permit no. 561209 and the subsequent significant modification to this permit., both issued by TDEC to TVA. Petitioner claims that these permitting actions: Fail to include monitoring requirements adequate to ensure compliance with opacity, particulate matter, and fugitive dust requirements; fail to include reporting requirements to ensure compliance with a previous consent decree; include startup/shutdown provisions that are inconsistent with the CAA; impose an unreasonably permissive limit for sulfur dioxide (SO2); and include a limit that fails to protect the one-hour National Ambient Air Quality Standard for SO2.

On January 30, 2018, the Administrator issued an Order denying the petitions. The Order explains EPA's basis for denying the petitions.

Dated: February 8, 2018.
Onis “Trey” Glenn, III,
Regional Administrator, Region 4.

[FR Doc. 2018-04093 Filed 2-27-18; 8:45 am]

BILLING CODE 6560-50-P